SUSQUEHANNA RIVER BASIN COMMISSION

Public Hearing

AGENCY: Susquehanna River Basin Commission.

ACTION: Notice.

SUMMARY: The Susquehanna River Basin Commission will hold a public hearing on May 23, 2013, in Harrisburg, Pennsylvania. At this public hearing, the Commission will hear testimony on the projects listed in the Supplementary Information section of this notice. Such projects are intended to be scheduled for Commission action at its next business meeting, tentatively scheduled for June 20, 2013, which will be noticed separately. The Commission will also hear testimony on amending its Regulatory Program Fee Schedule. The public should take note that this public hearing will be the only opportunity to offer oral comment to the Commission for the listed projects and other items. The deadline for the submission of written comments is June 3, 2013.

DATES: The public hearing will convene on May 23, 2013, at 2:30 p.m. The public hearing will end at 5:00 p.m. or at the conclusion of public testimony, whichever is sooner. The deadline for the submission of written comments is June 3, 2013.

ADDRESSES: The public hearing will be conducted at the Pennsylvania State Capitol, Room 8E-B, East Wing, Commonwealth Avenue, Harrisburg, Pa.

FOR FURTHER INFORMATION CONTACT: Richard A. Cairo, General Counsel, telephone: (717) 238-0423, ext. 306; fax: (717) 238-2436.

Information concerning the applications for these projects is available at the SRBC Water Resource Portal at www.srbc.net/wrp. Materials and supporting documents are available to inspect and copy in accordance with the Commission's Access to Records Policy at www.srbc.net/pubinfo/docs/2009-02%20Access%20to%20Records%20Policy%209-10-09.PDF.

Opportunity To Appear and Comment

Interested parties may appear at the hearing to offer comments to the Commission on any project listed below. The presiding officer reserves the right to limit oral statements in the interest of time and to otherwise control the course of the hearing. Ground rules will be posted on the Commission's Web site, www.srbc.net, prior to the hearing for review. The presiding officer reserves the right to modify or supplement such rules at the hearing. Written comments on any project listed below may also be mailed to Mr. Richard Cairo, General Counsel, Susquehanna River Basin Commission, 1721 North Front Street, Harrisburg, Pa. 17102-2391, or submitted electronically through http://www.srbc.net/pubinfo/publicparticipation.htm. Comments mailed or electronically submitted must be received by the Commission on or before June 3, 2013, to be considered.

SUPPLEMENTARY INFORMATION: The public hearing will cover amendment to its Regulatory Program Fee Schedule. Each June before the start of the next fiscal year on July 1, the Commission considers amendments to fee schedules. The public hearing will also cover the following projects:

Project Scheduled for Rescission Action

1. Project Sponsor and Facility: Chevron Appalachia, LLC (Chest Creek), Chest Township, Clearfield County, Pa. (Docket No. 20100603).

Projects Scheduled for Action

1. Project Sponsor and Facility: Aqua Infrastructure, LLC (Clearfield Creek), Boggs Township, Clearfield County, Pa. Application for renewal of surface water withdrawal of up to 2.000 mgd (peak day) (Docket No. 20081202).

2. Project Sponsor and Facility: Aqua Infrastructure, LLC (Tioga River), Hamilton Township, Tioga County, Pa. Application for surface water withdrawal of up to 2.500 mgd (peak day).

3. Project Sponsor and Facility: Michael and Sandra Buhler (Bennett Branch Sinnemahoning Creek), Huston Township, Clearfield County, Pa. Application for surface water withdrawal of up to 1.000 mgd (peak day).

4. Project Sponsor and Facility: Chesapeake Appalachia, LLC (Susquehanna River), Athens Township, Bradford County, Pa. Application for renewal of surface water withdrawal of up to 1.440 mgd (peak day) (Docket No. 20080906).

5. Project Sponsor: Chobani, Inc. Project Facility: South Edmeston, Town of Columbus, Chenango County, N.Y. Application for groundwater withdrawal of up to 0.720 mgd (30-day average) from Well 1.

6. Project Sponsor: Chobani, Inc. Project Facility: South Edmeston, Town of Columbus, Chenango County, N.Y. Application for groundwater withdrawal of up to 0.720 mgd (30-day average) from Well 2.

7. Project Sponsor: Chobani, Inc. Project Facility: South Edmeston, Town of Columbus, Chenango County, N.Y. Application for groundwater withdrawal of up to 0.720 mgd (30-day average) from Well 3.

8. Project Sponsor: Chobani, Inc. Project Facility: South Edmeston, Town of Columbus, Chenango County, N.Y. Application for consumptive water use of up to 0.283 mgd (peak day).

9. Project Sponsor: Delta Borough Municipal Authority. Project Facility: Delta Borough Water System, Peach Bottom Township, York County, Pa. Application for groundwater withdrawal of up to 0.073 mgd (30-day average) from Well 5.

10. Project Sponsor: Delta Borough Municipal Authority. Project Facility: Delta Borough Water System, Peach Bottom Township, York County, Pa. Application for groundwater withdrawal of up to 0.043 mgd (30-day average) from Well 6.

11. Project Sponsor: Delta Borough Municipal Authority. Project Facility: Delta Borough Water System, Peach Bottom Township, York County, Pa. Application for groundwater withdrawal of up to 0.064 mgd (30-day average) from Well 7.

12. Project Sponsor and Facility: Equipment Transport, LLC (Pine Creek), Gaines Township, Tioga County, Pa. Application for surface water withdrawal of up to 0.467 mgd (peak day).

13. Project Sponsor and Facility: Equipment Transport, LLC (Susquehanna River), Great Bend Township, Susquehanna County, Pa. Application for surface water withdrawal of up to 0.999 mgd (peak day).

14. Project Sponsor and Facility: Furman Foods, Inc., Point Township, Northumberland County, Pa. Application for consumptive water use of up to 0.900 mgd (peak day).

15. Project Sponsor and Facility: LDG Innovation, LLC (Tioga River), Lawrenceville Borough, Tioga County, Pa. Modification to low flow protection requirements of the surface water withdrawal approval (Docket No. 20100311).

16. Project Sponsor and Facility: Municipal Authority of the Borough of Mansfield, Richmond Township, Tioga County, Pa. Application for groundwater withdrawal of up to 0.079 mgd (30-day average) from Well 3, and authorization for interconnection with Mansfield University as a supplemental source.

17. Project Sponsor and Facility: Martinsburg Municipal Authority, North Woodbury Township, Blair County, Pa. Application for groundwater withdrawal of up to 0.288 mgd (30-day average) from Wineland Well RW-1.

18. Project Sponsor and Facility: Navitus, LLC (North Spring, Logan Branch Watershed), Spring Township, Centre County, Pa. Application for surface water withdrawal of up to 1.440 mgd (peak day).

19. Project Sponsor: New Morgan Landfill Company, Inc. Project Facility: Conestoga Landfill, New Morgan Borough, Berks County, Pa. Application for groundwater withdrawal of up to 0.007 mgd (30-day average) from Well SW-4.

20. Project Sponsor: New Oxford Municipal Authority. Project Facility: Oxen Country Meadows, Oxford Township, Adams County, Pa. Application for groundwater withdrawal of up to 0.144 mgd (30-day average) from Oxen Country Meadows (OCM) Well 1.

21. Project Sponsor and Facility: Somerset Regional Water Resources, LLC (Salt Lick Creek), New Milford Township, Susquehanna County, Pa. Modification to project features of the surface water withdrawal approval (Docket No. 20100905).

22. Project Sponsor and Facility: Southwestern Energy Production Company (Middle Lake), New Milford Township, Susquehanna County, Pa. Modification to low flow protection requirements of the surface water withdrawal approval (Docket No. 20121223).

23. Project Sponsor and Facility: State College Borough Water Authority, Ferguson Township, Centre County, Pa. Application for renewal of groundwater withdrawal of up to 0.432 mgd (30-day average) from Well 41 (Docket No. 19820501).

24. Project Sponsor and Facility: State College Borough Water Authority, Ferguson Township, Centre County, Pa. Application for renewal of groundwater withdrawal of up to 1.440 mgd (30-day average) from Well 43 (Docket No. 19820501).

25. Project Sponsor and Facility: State College Borough Water Authority, Ferguson Township, Centre County, Pa. Application for renewal of groundwater withdrawal of up to 1.720 mgd (30-day average) from Well 53 (Docket No. 19820501).

26. Project Sponsor: SWEPI LP (Tioga River), Richmond Township, Tioga County, Pa. Application for renewal of surface water withdrawal with modification to increase by an additional 0.843 mgd (peak day), for a total of 0.950 mgd (peak day) (Docket No. 20090612).

27. Project Sponsor and Facility: WPX Energy Appalachia, LLC (Susquehanna River), Great Bend Township, Susquehanna County, Pa. Application for renewal of surface water withdrawal of up to 1.000 mgd (peak day) (Docket No. 20090303).

28. Project Sponsor and Facility: York County Solid Waste and Refuse Authority, Hopewell Township, York County, Pa. Modification to metering requirements of the groundwater withdrawal approval (Docket No. 20121226).

Authority: Public Law 91-575, 84 Stat. 1509 et seq., 18 CFR parts 806-808.

Dated: April 19, 2013.
Paul O. Swartz,
Executive Director.

[FR Doc. 2013-09887 Filed 4-25-13; 8:45 am]

BILLING CODE 7040-01-P